OFFICE OF GOVERNMENT ETHICS

Agency Information Collection Activities; Submission for OMB Review; Proposed Collection; Comment Request for a Modified OGE Form 450 Executive Branch Confidential Financial Disclosure Report

AGENCY: Office of Government Ethics (OGE).

ACTION: Notice of request for agency and public comments.

SUMMARY: After publication of this second round notice, OGE intends to submit a modified OGE Form 450 Executive Branch Confidential Financial Disclosure Report to the Office of Management and Budget (OMB) for review and approval of a three-year extension under the Paperwork Reduction Act of 1995.

DATES: Written comments by the public and the agencies on this proposed extension are invited and must be received by January 30, 2017.

ADDRESSES: You may submit comments on this paperwork notice to the Office of Management and Budget, Attn: Desk Officer for OGE, via fax at 202-395-6974 or email at OIRA_Submission@omb.eop.gov. (Include reference to “OGE Form 450 paperwork comment” in the subject line of the message.)

FOR FURTHER INFORMATION CONTACT: Brandon Steele at the U.S. Office of Government Ethics; telephone: 202-482-9209; TTY: 800-877-8339; FAX: 202-482-9237; Email: basteele@oge.gov. An electronic copy of the OGE Form 450 is available in the Forms Library section of OGE's Web site at http://www.oge.gov. A paper copy may also be obtained, without charge, by contacting Mr. Steele.

SUPPLEMENTARY INFORMATION: Title: Executive Branch Confidential Financial Disclosure Report.

Agency Form Number: OGE Form 450.

OMB Control Number: 3209-0006.

Type of Information Collection: Extension with modifications of a currently approved collection.

Type of Review Request: Regular.

Respondents: Private citizens who are potential (incoming) regular Federal employees whose positions are designated for confidential disclosure filing, and special Government employees whose agencies require that they file new entrant disclosure reports prior to assuming Government responsibilities.

Estimated Annual Number of Respondents: 24,640.

Estimated Time per Response: 1 hour.

Estimated Total Annual Burden: 24,640 hours.

Abstract: The OGE Form 450 collects information from covered department and agency employees as required under OGE's executive branchwide regulatory provisions in subpart I of 5 CFR part 2634. The basis for the OGE reporting regulation is section 201(d) of Executive Order 12674 of April 12, 1989 (as modified by Executive Order 12731 of October 17, 1990, 3 CFR, 1990 Comp., pp. 306-311, at p. 308) and section 107(a) of the Ethics in Government Act, 5 U.S.C. app. sec. 107(a). OGE proposes several modifications to the form. OGE proposes to clarify the instructions in two places to assist filers in completing the form. OGE also proposes to revise the Privacy Act Statement in accordance with the OGE/GOVT-2 Executive Branch Confidential Financial Disclosure Reports Privacy Act system of records.

OGE published a first round notice of its intent to request paperwork clearance for a modified OGE Form 450 Executive Branch Confidential Financial Disclosure Report. See 81 FR 70113 (October 11, 2016). OGE received no responses to that notice.

Request for Comments: Agency and public comment is again invited specifically on the need for and practical utility of this information collection, the accuracy of OGE's burden estimate, the enhancement of quality, utility, and clarity of the information collected, and the minimization of burden (including the use of information technology). Comments received in response to this notice will be summarized for, and may be included with, the OGE request for extension of OMB paperwork approval. The comments will also become a matter of public record.

Approved: December 22, 2016.
Walter M. Shaub, Jr.,
Director, Office of Government Ethics.

[FR Doc. 2016-31452 Filed 12-28-16; 8:45 am]

BILLING CODE 6345-03-P